DEPARTMENT OF THE INTERIOR

National Park Service

[NPS-WASO-NAGPRA-NPS0039943; PPWOCRADN0-PCU00RP14.R50000]

Notice of Intended Repatriation: Buffalo Society of Natural Sciences, Buffalo Museum of Science, Buffalo, NY

AGENCY: National Park Service, Interior.

ACTION: Notice.

SUMMARY: In accordance with the Native American Graves Protection and Repatriation Act (NAGPRA), the Buffalo Society of Natural Sciences intends to repatriate a certain cultural item that meets the definition of an unassociated funerary object and that has a cultural affiliation with the Indian Tribes or Native Hawaiian organizations in this notice.

DATES: Repatriation of the cultural item in this notice may occur on or after May 19, 2025.

ADDRESSES: Kathryn H. Leacock, Buffalo Society of Natural Sciences, Buffalo Museum of Science, 1020 Humboldt Parkway, Buffalo, NY 14211, telephone (716) 896-5200, email kleacock@sciencebuff.org.

SUPPLEMENTARY INFORMATION: This notice is published as part of the National Park Service's administrative responsibilities under NAGPRA. The determinations in this notice are the sole responsibility of the Buffalo Society of Natural Sciences and additional information on the determinations in this notice, including the results of consultation, can be found in the summary or related records. The National Park Service is not responsible for the determinations in this notice.

Abstract of Information Available

A total of one cultural item has been requested for repatriation. The one unassociated funerary item is known as catalog number C478. Museum catalog records indicate this is a ceramic vessel with a long neck and indentations on the shoulder. The ceramic is shell tempered. This funerary object was known to be part of a larger burial-ceremonial complex at Moundville, in Hale and Tuscaloosa Counties, Alabama. Moundville is culturally affiliated to the Muskogean language speaking Tribes. Accession records indicate that C478 was removed from Mound D at Moundville in Hale County Alabama. Collected by Chauncey W. Riggs and acquired by the Buffalo Society of Natural Sciences in 1891.

Determinations

The Buffalo Society of Natural Sciences has determined that:

• The one unassociated funerary object described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and The Choctaw Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the Buffalo Society of Natural Sciences must determine the most appropriate requestor prior to repatriation. Requests for joint repatriation of the cultural items are considered a single request and not competing requests. The Buffalo Society of Natural Sciences is responsible for sending a copy of this notice to the Indian Tribes and Native Hawaiian organizations identified in this notice and to any other consulting parties.

Authority: Native American Graves Protection and Repatriation Act, 25 U.S.C. 3004 and the implementing regulations, 43 CFR 10.9.

Dated: April 8, 2025.
Melanie O'Brien,
Manager, National NAGPRA Program.

[FR Doc. 2025-06633 Filed 4-17-25; 8:45 am]

BILLING CODE 4312-52-P